COMMODITY FUTURES TRADING COMMISSION

17 CFR Parts 1, 3, 4, 9, 11, 16, 17, 18, 19, 21, 31, 36, 37, 38, 39, 40, 41, 140, 145, 150, 170, 171 and 190

Changes in Divisional Structure and Delegations of Authority

AGENCY: Commodity Futures Trading Commission.

ACTION: Final rules.

SUMMARY: The Commission is amending its rules to reflect the reassignment of responsibilities, including delegations of authority, resulting from its recent reorganization of Commission staff. Effective July 1, 2002, the Commission reassigned the responsibilities of the former Division of Trading and Markets and Division of Economic Analysis to the newly established Division of Clearing and Intermediary Oversight, Division of Market Oversight and Office of the Chief Economist. The reorganized divisions will more effectively implement the provisions of the Commodity Futures Modernization Act of 2000 (CFMA).

EFFECTIVE DATE: October 7, 2002.

FOR FURTHER INFORMATION CONTACT: Paul M. Architzel, Division of Market Oversight, Commodity Futures Trading Commission, Three Lafayette Centre, 1155 21st Street, NW., Washington, DC 20581. Telephone 202-418-5260. E-mail: [parchitzel@cftc.gov].

SUPPLEMENTARY INFORMATION: On December 21, 2000, the President signed into law the Commodity Futures Modernization Act of 2000 (“CFMA”) which extensively revises the Commodity Exchange Act (Act)¹ In order to more effectively implement its provisions, the Commission has reorganized its operating divisions. Under the reorganized structure, the Division of Trading and Markets and the Division of Economic Analysis (the former divisions) has been reconfigured into two new divisions, the Division of Clearing and Intermediary Oversight and the Division of Market Oversight (the new divisions), and the Office of the Chief Economist.

¹ The Commodity Exchange Act may be found at 7 U.S.C. 1 et seq. (2000), as amended by the Commodity Futures Modernization Act of 2000, Appendix E of Pub. L. 106-554, 114 Stat. 2763 (2000).

The Commission is amending several of its rules in Chapter I of Title 17 of the Code of Federal Regulations to reflect this reorganized structure. Accordingly, as indicated in the chart below, the Commission is deleting from its rules references to the former divisions and replacing them with references to the new divisions. As amended, the rules will reflect the new assignments of responsibilities, including delegated authorities, to the two new divisions.

The Commission is also amending rule 140.99, which governs requests for exemptive, no-action and interpretative letters. Before its amendment, rule 140.99 required all requests to be filed with the Division of Trading and Markets, and thereafter routed to the appropriate office or division. The Commission has determined that it will be more efficient to require the requester to file the request directly with the division with operating responsibility for administering the provision of the Act or of the Commission's regulations from which relief is sought. Accordingly, the Commission is amending rule 140.99 to require that requests relating to certain specific subject matter areas (as enumerated in the amended rule) be filed with the division with operating responsibility for that subject matter area.

The Commission is deleting rule 140.100 which it adopted on July 9, 2002, 67 FR 45299. That rule provided that all delegations of authority from the Commission to the Directors of the former divisions, and their respective designees, as set forth in Chapter I of Title 17 of the Code of Federal Regulations, were delegated jointly to the respective Directors of the new divisions, and their respective designees. Now that the Commission has amended several of its rules to reflect the new agency structure, rule 140.100 is no longer necessary. Finally, the Commission is removing and reserving rules 1.41a, 1.41c and 1.42, which have been superseded by the CFMA²

² Section 15 of the Commodity Exchange Act, as amended by the CFMA, provides that before promulgating a regulation under this Act or issuing an order, the Commission shall consider the costs and benefits of the action of the Commission. These rules govern internal agency organization, procedure, and practice, and therefore the Commission finds that none of the considerations enumerated in section 15(a)(2) of the Act, as amended, are applicable to these rules.

Related Matters

Administrative Procedure Act

The Commission has determined that restructuring of responsibilities, including delegations of authority, relates solely to agency organization, procedure and practice. Therefore, the provisions of the Administrative Procedure Act that generally require notice of proposed rulemaking and that provide other opportunities for public participation are not applicable.³ The Commission further finds that, because the rules have no adverse effect upon a member of the public, there is good cause to make them effective immediately upon publication in the Federal Register.

³ 5 U.S.C. 553 (1994).

List of Subjects

17 CFR Part 1

Brokers, Commodity futures, Reporting and recordkeeping requirements.

17 CFR Part 140

Authority delegations (Government agencies), Organization and functions (Government agencies).

In consideration of the foregoing, and pursuant to the authority contained in the Act, and in particular section 2(a)(11) of the Act, 7 U.S.C. 2(a)(11), as amended, the Commission hereby amends Parts 1, 3, 4, 9, 11, 16, 17, 18, 19, 21, 31, 36, 37, 38, 39, 40, 41, 140, 145, 150, 170, 171, and 190 of Chapter I of Title 17 of the Code of Federal Regulations as follows:

17 CFR Parts 1, 3, 4, 9, 11, 16, 17, 18, 19, 21, 31, 36, 37, 38, 39, 40, 41, 140, 145, 150, 170, 171 and 190

1. In the table below, for each section indicated in the left column, remove the words indicated in the middle column from wherever they appear in the section, and add the words indicated in the right column:

Section | Remove | Add
1.12(g)(3) | Division of Trading and Markets | Division of Clearing and Intermediary Oversight.
1.12(h) | Division of Trading Markets | Division of Clearing and Intermediary Oversight.
1.62(b) | Division of Trading and Markets | Division of Clearing and Intermediary Oversight.
1.62(b) | Attn: Chief Counsel, | Attn:
1.65(d) | Chief Counsel, Division of Trading and Markets | Deputy Director, Compliance and Registration Section, Division of Clearing and Intermediary Oversight.
1.66(b)(5)(ii) | Division of Trading and Markets | Division of Clearing and Intermediary Oversight.
3.12(g)(2)(i) | Division of Trading and Markets | Division of Clearing and Intermediary Oversight.
3.12(g)(2)(ii) | Division of Trading and Markets | Division of Clearing and Intermediary Oversight.
3.22 | Division of Trading and Markets | Division of Clearing and Intermediary Oversight.
3.33(e) | Division of Trading and Markets, Registration Unit | Division of Clearing and Intermediary Oversight.
3.50(c) | Division of Trading and Markets | Division of Clearing and Intermediary Oversight.
3.50(d) | Division of Trading and Markets | Division of Clearing and Intermediary Oversight.
3.55(e)(2) | Division of Trading and Markets | Division of Clearing and Intermediary Oversight.
3.56(e)(2) | Division of Trading and Markets | Division of Clearing and Intermediary Oversight.
3.63 | Division of Trading and Markets | Division of Clearing and Intermediary Oversight.
3.70(a) | Division of Trading and Markets | Division of Clearing and Intermediary Oversight.
3.70(a) | Chief Counsel | Deputy Director, Compliance and Registration Section.
Pt. 3 App. A, | Division of Trading and Markets | Division of Clearing and Intermediary Oversight.
4.2(a) | Managed Funds Branch, Division of Trading and Markets | Division of Clearing and Intermediary Oversight.
9.2(h) | Division of Trading and Markets | Division of Market Oversight and/or the Division of Clearing and Intermediary Oversight.
9.11(c) | Contract Markets Section, Division of Trading and Markets | Division of Market Oversight.
9.12(b) | Division of Trading and Markets | Division of Market Oversight.
9.26, first sentence | Within twenty days after the receipt by the Division of Trading and Markets of the answering brief, the Division of Trading and Markets * * *. | Within twenty days after receipt of the answering brief, the Division of Market Oversight and/or the Division of Clearing and Intermediary Oversight * * *
9.26, last sentence | No employee of the Division of Trading and Markets | No employee of the Division(s) filing the notice.
9.31(a) | Division of Trading and Markets | Division of Market Oversight or the Division of Clearing and Intermediary Oversight.
11.2(a) | Division of Trading and Markets | Division of Clearing and Intermediary Oversight.
11.2(a) | Division of Economic Analysis | Division of Market Oversight.
16.07 | Division of Economic Analysis | Division of Market Oversight.
17.03 | Division of Economic Analysis | Division of Market Oversight.
18.03 | Division of Economic Analysis | Division of Market Oversight.
19.00(a)(3) | Division of Economic Analysis | Division of Market Oversight.
21.02a(c) | Division of Economic Analysis | Division of Market Oversight.
31.6(f)(1) | Division of Economic Analysis | Division of Market Oversight.
31.6(f)(2) | Division of Economic Analysis | Division of Market Oversight.
31.13(n)(1) | Division of Trading and Markets | Division of Cleaering and Intermediary Oversight.
31.14(a) | Division of Trading and Markets | Division of Clearing and Intermediary Oversight.
31.14(a) | Division of Economic Analysis | Division of Market Oversight.
36.3(b)(2)(ii) | Division of Trading and Markets | Division of Clearing and Intermediary Oversight.
36.3(b)(2)(ii) | Economic Analysis | The Division of Market Oversight.
37.5(f)(1) | Division of Trading and Markets and separately to the Director of Economic Analysis or such other employee or employees as the Directors | Division of Market Oversight or such other employee or employees as the Director.
37.5(f)(2) | Directors | Director.
37.8(d) | Division of Trading and Markets | Division of Clearing and Intermediary Oversight.
37.8(d) | Division of Economic Analysis | Division of Market Oversight.
38.3(e)(1) | Division of Trading and Markets and separately to the Director of Economic Analysis or such other employee or employees as the Directors | Division of Market Oversight or such other employee or employees as the Director.
38.3(e)(2) | Directors | Director.
38 App B, Core Principle 11, (a) | Division of Trading and Markets | Division of Clearing and Intermediary Oversight.
39.3(e)(1)-(2) | Division of Trading and Markets | Division of Clearing and Intermediary Oversight.
40.7(a)(1) | Division of Trading and Markets | Division of Clearing and Intermediary Oversight.
40.7(a)(1) | Economic Analysis | The Division of Market Oversight.
40.7(a)(2) | Director of the Division of Trading and Markets, or the delegatees of the Director | Directors of Division of Market Oversight and Division of Clearing and Intermediary Oversight or the delegatees of the Directors.
40.7(b), introductory text | Division of Trading and Markets | Division of Clearing and Intermediary Oversight.
40.7(b), introductory text | Economic Analysis | The Division of Market Oversight.
41.33(g) | Division of Trading and Markets and the Director of the Division of Economic Analysis, jointly | Division of Market Oversight.
41.33(g)(1) | Division of Trading and Markets or the Director of the Division of Economic Analysis | Division of Market Oversight.
41.33(g)(2) | Division of Trading and Markets and the Director of the Division of Economic Analysis | Division of Market Oversight.
41.3(d) | Division of Trading and Markets | Division of Clearing and Intermediary Oversight.
140.72(a) | Division of Trading and Markets | Division of Clearing and Intermediary Oversight.
140.72(a) | Division of Economic Analysis | Division of Market Oversight.
140.73(a) | Division of Trading and Markets | Division of Clearing and Intermediary Oversight.
140.73(a) | Division of Economic Analysis | Division of Market Oversight.
140.73(b) | Division of Economic Analysis | Division of Market Oversight.
140.74(a) | Division of Economic Analysis | Division of Market Oversight.
140.74(b) | Division of Economic Analysis | Division of Market Oversight.
140.74(c) | Division of Economic Analysis | Division of Market Oversight.
140.75 | Division of Trading and Markets | Division of Clearing and Intermediary Oversight.
140.76(a) | Division of Trading and Markets | Division of Clearing and Intermediary Oversight.
140.76(b) | Division of Trading and Markets | Division of Clearing and Intermediary Oversight.
140.77(a) | Director of the Division of Economic Analysis and the Division of Trading and Markets or their | Director of the Division of Market Oversight or the Director's.
140.77(b) | Directors of the Division of Economic Analysis and the Division of Trading and Markets may submit any matter which has been delegated to them | Director of the Division of Market Oversight may submit any matter which has been delegated to the director.
140.77(c) | Directors of the Division of Economic Analysis and the Division of Trading and Markets | Director of the Division of Market Oversight.
140.91(a) | Division of Trading and Markets | Division of Clearing and Intermediary Oversight.
140.91(b) | Division of Trading and Markets | Division of Clearing and Intermediary Oversight.
140.92(a) | Division of Trading and Markets | Division of Clearing and Intermediary Oversight.
140.92(b) | Division of Trading and Markets | Division of Clearing and Intermediary Oversight.
140.92(c) | Division of Trading and Markets | Division of Clearing and Intermediary Oversight.
140.93(a) | Division of Trading and Markets | Division of Clearing and Intermediary Oversight.
140.93(b) | Division of Trading and Markets | Division of Clearing and Intermediary Oversight.
140.93(c) | Division of Trading and Markets | Division of Clearing and Intermediary Oversight.
140.95(a) | Division of Trading and Markets | Division of Clearing and Intermediary Oversight.
140.95(b) | Division of Trading and Markets | Division of Clearing and Intermediary Oversight.
140.94(c) | Division of Trading and Markets | Division of Clearing and Intermediary Oversight.
140.96(a) | Division of Economic Analysis | Division of Market Oversight.
140.96(b) | Division of Economic Analysis | Division of Market Oversight.
140.96(b) | Division of Trading and Markets | Division of Clearing and Intermediary Oversight.
140.96(c) | Division of Economic Analysis | Division of Market Oversight.
140.96(c) | Division of Trading and Markets | Division of Clearing and Intermediary Oversight.
140.96(d) | Division of Economic Analysis | Division of Market Oversight.
140.96(d) | Division of Trading and Markets | Division of Clearing and Intermediary Oversight.
140.97(a) | Division of Economic Analysis | Division of Market Oversight.
140.97(b) | Division of Economic Analysis | Division of Market Oversight.
140.97(c) | Division of Economic Analysis | Division of Market Oversight.
140.99(a)(5) | Division of Trading and Markets | Division of Clearing and Intermediary Oversight.
140.99(a)(5) | Division of Economic Analysis | Division of Market Oversight.
140.735-2a footnote 7 | Division of Economic Analysis | Division of Market Oversight.
145.6(a) | Division of Economic Analysis, Commodity Futures Trading Commission, One World Trade Center, Suite 3747, New York, New York 10048, Telephone: (212) 466-2061 | Commodity Futures Trading Commission, 140 Broadway, New York, New York 10005 Telephone: (646) 746-9700.
145.6(a) | Division of Trading and Markets, Commodity Futures Trading Commission, 300 South Riverside Plaza, Suite 1600 North, Chicago, Illinois 60606, Telephone: (312) 353-5990 | Commodity Futures Trading Commission, 525 West Monroe Street, Suite 1100, Chicago, Illinois 60661, Telephone: (312) 596-0700.
145.6(a) | Division of Trading and Markets, Commodity Futures Trading Commission, 510 Grain Exchange Building, Minneapolis, Minnesota 55415, Telephone (612) 370-3255 | Commodity Futures Trading Commission, 510 Grain Exchange Building, Minneapolis, Minnesota 55415, Telephone: (612) 370-3255.
145.6(a) | Division of Trading and Markets, Commodity Futures Trading Commission, 4900 Main Street, Suite 721, Kansas City, Missouri 64112, Telephone: (816) 931-7600 | Commodity Futures Trading Commission, 4900 Main Street, Suite 721, Kansas City, Missouri 64112, Telephone: (816) 931-7600.
Pt. 145, App A, (e) | Division of Economic Analysis | Division of Market Oversight.
Pt. 145, App A, (g) | Division of Trading and Markets | Division of Clearing and Intermediary Oversight.
150.3(b) | Division of Economic Analysis | Division of Market Oversight.
150.4(e) | Division of Economic Analysis | Division of Market Oversight.
170.12 | Division of Trading and Markets | Division of Clearing and Intermediary Oversight.
171.28 | Division of Trading and Markets | Division of Clearing and Intermediary Oversight.
171.28 | Division of Economic Analysis | Division of Market Oversight.
171.31(a) | Division of Trading and Markets | Division of Clearing and Intermediary Oversight.
171.31(a) | Division of Economic Analysis | Division of Market Oversight.
190.10(a) | Division of Trading and Markets | Division of Clearing and Intermediary Oversight.
190.10(b)(4) | Division of Trading and Markets | Division of Clearing and Intermediary Oversight.
190.10(d) heading & (d)(1) | Division of Trading and Markets | Division of Clearing and Intermediary Oversight.
190.10(d)(2) | Division of Trading and Markets | Division of Clearing and Intermediary Oversight.
190.10(d)(3) | Division of Trading and Markets | Division of Clearing and Intermediary Oversight.

PART 1—GENERAL REGULATIONS UNDER THE COMMODITY EXCHANGE ACT

2. The authority citation for Part 1 continues to read as follows:

Authority: 7 U.S.C. 1a, 2, 2a, 4, 4a, 6, 6a, 6b, 6c, 6d, 6e, 6f, 6h, 6i, 6j, 6k, 6l, 6m, 6n, 6o, 6p, 7, 7a, 7b, 8, 9, 12, 12a, 12c, 13a, 13a-1, 16, 16a, 19, 21, 23, and 24.

3. Sections 1.4a, 1.41c, and 1.42 are removed and reserved.

PART 140—ORGANIZATION, FUNCTIONS, AND PROCEDURES OF THE COMMISSION

4. The authority citation for Part 140 continues to read as follows:

Authority: 7 U.S.C. 2 and 12a.

5. Section 140.99 is amended by revising paragraph (d)(2) to read as follows:

§ 140.99 Request for exemptive, no-action and interpretative letters.

* * * * *

(d) Filing requirements. * * *

(1) * * *

(2) A request for a Letter relating to the provisions of the Act or the Commission's rules, regulations or orders governing designated contract markets, registered derivatives transaction execution facilities, exempt commercial markets, exempt boards of trade, the nature of particular transactions and whether they are exempt or excluded from being required to be traded on one of the foregoing entities, foreign trading terminals, hedging exemptions, and the reporting of market positions shall be filed with the Director, Division of Market Oversight, Commodity Futures Trading Commission, Three Lafayette Centre, 1155 21st Street, NW., Washington, DC 20581. A request for a Letter relating to all other provisions of the Act or Commission rules shall be filed with the Director, Division of Clearing and Intermediary Oversight Commodity Futures Trading Commission, Three Lafayette Centre, 1155 21st Street, NW., Washington, DC 20581. A request for a Letter relating to all other provisions of the Act or Commission rules shall be filed with the Director, Division of Clearing and Intermediary Oversight, Commodity Futures Trading Commission, Three Lafayette Centre, 1155 21st Street, NW., Washington, DC 20581. The request must be submitted electronically using the e-mail address dmoletters@cftc.gov (for request filed with the Division of Market Oversight), or dcioletters@cftc.gov (for requests filed with the Division of Clearing and Intermediary Oversight), as appropriate, and a properly signed paper copy of the request must be provided to the Division of Market Oversight or the Division of Clearing and Intermediary Oversight, as appropriate, within ten days for purposes of verification of the electronic submission.

* * * * *

§ 140.100 [Removed]

6. Section 140.100 is removed.

Issued in Washington, DC, this 26th day of September, 2002, by the Commission.
Jean A. Webb,
Secretary of the Commission.

[FR Doc. 02-25049 Filed 10-4-02; 8:45 am]

BILLING CODE 6351-01-M